DEPARTMENT OF ENERGY

Federal Energy Regulatory Commission

Combined Notice of Filings # 1

Take notice that the Commission received the following electric rate filings:

Docket Numbers: ER10-1651-002.

Applicants: Golden State Water Company.

Description: Supplement to June 27, 2013 Updated market power analysis of Golden State Water Company.

Filed Date: 1/27/14.

Accession Number: 20140127-5088.

Comments Due: 5 p.m. ET 3/24/14.

Docket Numbers: ER13-2490-004.

Applicants: Simon Solar Farm, LLC.

Description: Supplement to January 22, 2014 Notice of Non-Material Change in Status of Simon Solar Farm, LLC.

Filed Date: 3/11/14.

Accession Number: 20140311-5191.

Comments Due: 5 p.m. ET 4/1/14.

Docket Numbers: ER14-225-002.

Applicants: New Brunswick Energy Marketing Corporation.

Description: Supplement to February 14, 2014 Triennial Review Compliance Filing of New Brunswick Energy Marketing Corporation.

Filed Date: 3/12/14.

Accession Number: 20140312-5194.

Comments Due: 5 p.m. ET 4/15/14.

Docket Numbers: ER14-350-002.

Applicants: NorthWestern Corporation.

Description: Correction to Order No. 764 Compliance Filing (Montana) to be effective 1/7/2014.

Filed Date: 3/12/14.

Accession Number: 20140312-5056.

Comments Due: 5 p.m. ET 4/2/14.

Docket Numbers: ER14-591-002.

Applicants: Southwest Power Pool, Inc.

Description: 2635 Lincoln Electric System GIA—Amended Compliance Filing to be effective 11/26/2013.

Filed Date: 3/12/14.

Accession Number: 20140312-5183.

Comments Due: 5 p.m. ET 4/2/14.

Docket Numbers: ER14-1077-000.

Applicants: Victory Garden Phase IV, LLC.

Description: Supplement to January 17, 2014 Victory Garden Phase IV, LLC tariff filing.

Filed Date: 3/11/14.

Accession Number: 20140311-5192.

Comments Due: 5 p.m. ET 4/1/14.

Docket Numbers: ER14-1373-001.

Applicants: Energy Utility Group, LLC.

Description: Amended MBR Filing to be effective 3/31/2014.

Filed Date: 3/12/14.

Accession Number: 20140312-5170.

Comments Due: 5 p.m. ET 4/2/14.

Docket Numbers: ER14-1463-000.

Applicants: PJM Interconnection, L.L.C.

Description: First Revised Service Agreement No. 3185; Queue No. W4-046 to be effective 2/12/2014.

Filed Date: 3/11/14.

Accession Number: 20140311-5174.

Comments Due: 5 p.m. ET 4/1/14.

Docket Numbers: ER14-1464-000.

Applicants: Duke Energy Carolinas, LLC.

Description: EUEMC NITSA Revisions SA OATT No. 366 to be effective 3/1/2014.

Filed Date: 3/12/14.

Accession Number: 20140312-5017.

Comments Due: 5 p.m. ET 4/2/14.

Docket Numbers: ER14-1465-000.

Applicants: Avenal Park LLC.

Description: Avenal Park Compliance Filing to be effective 5/10/2014.

Filed Date: 3/12/14.

Accession Number: 20140312-5020.

Comments Due: 5 p.m. ET 4/2/14.

Docket Numbers: ER14-1466-000.

Applicants: Sand Drag LLC.

Description: Sand Drag Compliance Filing to be effective 5/10/2014.

Filed Date: 3/12/14.

Accession Number: 20140312-5021.

Comments Due: 5 p.m. ET 4/2/14.

Docket Numbers: ER14-1467-000.

Applicants: Sun City Project LLC.

Description: Sun City Compliance Filing to be effective 5/10/2014.

Filed Date: 3/12/14.

Accession Number: 20140312-5022.

Comments Due: 5 p.m. ET 4/2/14.

Docket Numbers: ER14-1468-000.

Applicants: KMC Thermo, LLC.

Description: Market-Based Rate Application to be effective 5/16/2014.

Filed Date: 3/12/14.

Accession Number: 20140312-5042.

Comments Due: 5 p.m. ET 4/2/14.

Docket Numbers: ER14-1469-000.

Applicants: PJM Interconnection, L.L.C.

Description: Revisions to OA Sec 18.17 Permitting Sharing of Data with Gas Pipeline Operators to be effective 3/13/2014.

Filed Date: 3/12/14.

Accession Number: 20140312-5046.

Comments Due: 5 p.m. ET 4/2/14.

Docket Numbers: ER14-1470-000.

Applicants: Midcontinent Independent System Operator, Inc.

Description: 2014-03-11_SA 2645 Ameren-White Oak Facilities Service Agreement to be effective 5/11/2014.

Filed Date: 3/12/14.

Accession Number: 20140312-5156.

Comments Due: 5 p.m. ET 4/2/14.

Docket Numbers: ER14-1472-000.

Applicants: Public Service Company of Colorado.

Description: 2014-3-12_PSC-WAPA-T-Poncha SS PPA-358-0.0.0 to be effective 2/24/2014.

Filed Date: 3/12/14.

Accession Number: 20140312-5207.

Comments Due: 5 p.m. ET 4/2/14.

Docket Numbers: ER14-1473-000.

Applicants: Central Maine Power Company.

Description: Central Maine Power Company submits tariff filing per 35.13(a)(2)(iii: Amended Warren Interconnection Agreement to be effective 3/13/2014.

Filed Date: 3/12/14.

Accession Number: 20140312-5214.

Comments Due: 5 p.m. ET 4/2/14.

Take notice that the Commission received the following electric reliability filings.

Docket Numbers: RD14-7-000.

Applicants: North American Electric Reliability Corporation.

Description: Petition of the North American Electric Reliability Corporation for Approval of Proposed Reliability Standard PER-005-2 and Retirement of Reliability Standard PER-005-1.

Filed Date: 3/7/14.

Accession Number: 20140307-5142.

Comments Due: 5 p.m. ET 4/11/14.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 12, 2014.
Nathaniel J. Davis, Sr.,
Deputy Secretary.

[FR Doc. 2014-06038 Filed 3-18-14; 8:45 am]

BILLING CODE 6717-01-P